DEPARTMENT OF COMMERCE

National Oceanic and Atmospheric Administration

RIN 0648-XD757

Nominations to the Marine Mammal Scientific Review Groups

AGENCY: National Marine Fisheries Service (NMFS), National Oceanic and Atmospheric Administration (NOAA), Commerce.

ACTION: Notice; request for nominations.

SUMMARY: As required by the Marine Mammal Protection Act (MMPA), the Secretary of Commerce established three independent regional Scientific Review Groups (SRGs) to provide advice on a range of marine mammal science and management issues. NMFS has conducted a membership review of the Alaska, Atlantic, and Pacific SRGs and is soliciting nominations for new Members to fill vacancies on the Atlantic and Pacific SRGs. Nominees should possess demonstrable expertise in the areas specified below, be able to conduct thorough scientific reviews of marine mammal science, and be able to fulfill the necessary time commitments associated with a thorough review of documents and attendance at one annual meeting.

DATES: Nominations must be received by March 20, 2015.

ADDRESSES: Nominations should be sent to: Chief, Marine Mammal and Sea Turtle Conservation Division, Office of Protected Resources, National Marine Fisheries Service, 1315 East-West Highway, Silver Spring, MD 20910-3226, Attn: SRGs.

FOR FURTHER INFORMATION CONTACT: Shannon Bettridge, Office of Protected Resources, 301-427-8402, Shannon.Bettridge@noaa.gov; or Seth Sykora-Bodie, Office of Protected Resources, 301-427-8409, Seth.Sykora-Bodie@noaa.gov. Information about the SRGs is available via the Internet at http://www.nmfs.noaa.gov/pr/sars/group.htm.

SUPPLEMENTARY INFORMATION: Section 117(d) of the Marine Mammal Protection Act (MMPA) (16 U.S.C. 1386(d)) directs the Secretary of Commerce to establish three independent regional Scientific Review Groups (SRGs) to advise the Secretary (authority delegated to the National Marine Fisheries Service (NMFS)). The Alaska SRG advises on marine mammals that occur in waters off Alaska that are under the jurisdiction of the United States. The Pacific SRG advises on marine mammals that occur in waters off the Pacific coast, Hawaiian Islands and the U.S. Territories in the Central and Western Pacific that are under the jurisdiction of the United States. The Atlantic SRG advises on marine mammals that occur in waters off the Atlantic coast, Gulf of Mexico, and U.S. Territories in the Caribbean that are under the jurisdiction of the United States.

The SRGs meet annually. Prior to the meetings, SRG Members review draft stock assessment reports and other relevant documents. SRGs comprise highly-qualified individuals with expertise in marine mammal biology and ecology, population dynamics and modeling, commercial fishing technology and practices, and stocks taken under section 101(b) of the MMPA. The SRGs provide expert reviews of draft marine mammal stock assessment reports and other information related to the matters identified in section 117(d)(1) of the MMPA, including:

(A) Population estimates and the population status and trends of marine mammal stocks;

(B) Uncertainties and research needed regarding stock separation, abundance, or trends, and factors affecting the distribution, size, or productivity of the stock;

(C) Uncertainties and research needed regarding the species, number, ages, gender, and reproductive status of marine mammals;

(D) Research needed to identify modifications in fishing gear and practices likely to reduce the incidental mortality and serious injury of marine mammals in commercial fishing operations;

(E) The actual, expected, or potential impacts of habitat destruction, including marine pollution and natural environmental change, on specific marine mammal species or stocks, and for strategic stocks, appropriate conservation or management measures to alleviate any such impacts; and

(F) Any other issue which the Secretary or the groups consider appropriate.

SRG Members collectively serve as independent advisors to NMFS and the U.S. Fish and Wildlife Service and provide their expert review and recommendations through participation in the SRG. Members attend meetings and undertake activities as independent persons providing expertise in their subject areas. Members are not appointed as representatives of professional organizations or particular stakeholder groups, including government entities, and are not permitted to represent or advocate for those organizations, groups or entities during SRG meetings, discussions and deliberations.

NMFS has developed terms of reference for the SRGs, which state that the agency will annually review the expertise available on the SRG and identify gaps in expertise needed to provide advice pursuant to section 117(d) of the MMPA. In conducting the reviews, NMFS will continue to attempt to achieve, to the maximum extent practicable, a balanced representation of viewpoints among the individuals on each SRG. NMFS has conducted a review of the expertise available on the three SRGs and has identified gaps. NMFS is now soliciting nominations for individuals with the following expertise.

For the Atlantic SRG (including waters off the Atlantic coast, Gulf of Mexico, and U.S. Territories in the Caribbean), NMFS seeks individuals with expertise in one or more of the following areas (in no particular order of priority): Quantitative ecology; habitat modeling; population dynamics; statistical analyses; passive acoustics; abundance estimation (including line transect methods, mark-recapture methods, quantitative bycatch estimation, and/or survey design); and fisheries gear/techniques, with particular emphasis on pot/trap and gillnet fisheries along the Atlantic coast and in Gulf of Mexico fisheries.

For the Pacific SRG (including waters off the Pacific coast, Hawaiian Islands and the U.S. Territories in the Central and Western Pacific), NMFS seeks individuals with expertise in one or more of the following areas (in no particular order of priority): Quantitative ecology; habitat modeling; population dynamics; fisheries gear/techniques, particularly of Hawaiian and Pacific Islands fisheries; Hawaii and Pacific Islands ecology; marine mammal genetics; passive acoustics; marine mammal population structure; abundance estimation (including line transect methods, mark-recapture methods, and quantitative bycatch estimation).

NMFS is not seeking nominations for the Alaska SRG in this solicitation.

Nominations for new Members should be accompanied by the individual's curriculum vitae and detailed information regarding (a) how the recommended person meets the minimum selection criteria for SRG Members, (b) how the recommended person would augment existing expertise or bring needed expertise to the group, and (c) how the recommended person's participation on the SRG would contribute to achieving a balanced representation of viewpoints. Self-nominations are acceptable. The following contact information should accompany each nomination: nominee's name, address, telephone number, and email address.

When reviewing nominations, NMFS will consider the following criteria:

(1) Ability to make time available for the purposes of the SRG;

(2) Knowledge of the species (or closely related species) of marine mammals in the SRG's region;

(3) Scientific or technical achievement in a relevant discipline, which may include ecology, life history, fishing technology and practices, biology, genetics, resource management, or biological modeling, to be considered an expert peer reviewer for the topic;

(4) Demonstrated experience working effectively on teams;

(5) Expertise relevant to current and expected needs of the SRG, in particular, expertise required to provide adequate review and knowledgeable feedback on current or developing stock assessment issues, techniques, etc. In practice, this means that each Member should have expertise in more than one topic as the species and scientific issues discussed in SRG meetings are diverse; and

(6) No conflict of interest with respect to their duties as a member of the SRG.

A Scientific Review Group Member cannot be a registered Federal lobbyist. Membership is voluntary and, except for reimbursable travel and related expenses, service is without pay. The terms of reference specify that the term of service for SRG Members is three years and Members may serve up to three consecutive terms. Nominations should be sent to (see ADDRESSES) and must be received by March 20, 2015.

Dated: February 11, 2015.
Perry Gayaldo,
Deputy Director, Office of Protected Resources, National Marine Fisheries Service.

[FR Doc. 2015-03196 Filed 2-17-15; 8:45 am]

BILLING CODE 3510-22-P